DEPARTMENT OF ENERGY

Federal Energy Regulatory Commission

[Project No. 2589-057—Michigan]

Marquette Board of Light and Power; Notice of Availability of Final Environmental Assessment

June 28, 2010.

In accordance with the National Environmental Policy Act of 1969, as amended, and the Federal Energy Regulatory Commission's (Commission) regulations (18 CFR part 380), the Office of Energy Projects has prepared a Final Environmental Assessment (FEA) regarding Marquette Board of Light and Power's plan to repair the Tourist Park Dam of the Marquette Hydroelectric Project (FERC No. 2589) located on the Dead River in Marquette County, Michigan. This FEA concludes that the proposed repair, with staff's recommended mitigation measures, would not constitute a major Federal action significantly affecting the quality of the human environment.

Copies of the FEA are available for review in the Public Reference Room 2-A of the Commission's offices at 888 First Street, NE., Washington, DC 20426. The FEA may also be viewed on the Commission's Internet Web site (http://www.ferc.gov) using the “eLibrary” link. Enter the docket number excluding the last three digits in the docket number field to access the document. Additional information about the project is available from the Commission's Office of External Affairs, at (202) 502-6088, or on the Commission's website using the eLibrary link. For assistance with eLibrary, contact FERCOnlineSupport@ferc.gov or toll-free at (866) 208-3676; for TTY contact (202) 502-8659.

Kimberly D. Bose,
Secretary.

[FR Doc. 2010-16286 Filed 7-2-10; 8:45 am]

BILLING CODE 6717-01-P